ENVIRONMENTAL PROTECTION AGENCY

40 CFR Parts 60, 61, and 63

[EPA-R09-OAR-2021-0962; FRL-9400-03-R9]

Delegation of New Source Performance Standards and National Emission Standards for Hazardous Air Pollutants for the States of Arizona and California

AGENCY: Environmental Protection Agency (EPA).

ACTION: Withdrawal of direct final rule.

SUMMARY: Because the Environmental Protection Agency (EPA) received public comment, which we intend to address, we are withdrawing the direct final rule for Delegation of New Source Performance Standards and National Emission Standards for Hazardous Air Pollutants for the States of Arizona and California published on March 31, 2022. The EPA will take a final action on the proposed action in a separate subsequent final rulemaking.

DATES: As of May 27, 2022, the EPA withdraws the direct final rule published at 87 FR 18705, on March 31, 2022.

FOR FURTHER INFORMATION CONTACT: Jeffrey Buss, EPA Region IX, 75 Hawthorne St., San Francisco, CA 94105. By phone: (415) 947-4152 or by email at buss.jeffrey@epa.gov.

SUPPLEMENTARY INFORMATION: Throughout this document, “we,” “us” and “our” refer to the EPA.

Because the Environmental Protection Agency (EPA) received a public comment that we intend to address, we are withdrawing the direct final rule for Delegation of New Source Performance Standards and National Emission Standards for Hazardous Air Pollutants for the States of Arizona and California published on March 31, 2022 (87 FR 18705). We stated in that direct final rule that if we received adverse comment by May 2, 2022, the direct final rule would not take effect and we would publish a timely withdrawal in the Federal Register. We subsequently received one comment on that direct final rule that we intend to address. We will address this comment in a subsequent final action, which will be based on the parallel proposed rule also published on March 31, 2022 (87 FR 18760). As stated in the direct final rule and the parallel proposed rule, we will not institute a second comment period on this action.

List of Subjects in 40 CFR Parts 60, 61, and 63

Environmental protection, Administrative practice and procedure, Air pollution control, Hazardous substances, Intergovernmental relations, and Reporting and recordkeeping requirements.

Accordingly, the EPA withdraws the direct final rule published at 87 FR 18705, on March 31, 2022.

Authority: 42 U.S.C. 7401 et seq.

Dated: May 23, 2022.
Elizabeth Adams,
Director, Air and Radiation Division, Region IX.

[FR Doc. 2022-11461 Filed 5-26-22; 8:45 am]

BILLING CODE 6560-50-P